DEPARTMENT OF COMMERCE

National Oceanic and Atmospheric Administration

RIN 0648-XC364

Pacific Fishery Management Council; Public Meeting

AGENCY: National Marine Fisheries Service (NMFS), National Oceanic and Atmospheric Administration (NOAA), Commerce.

ACTION: Notice of public meeting.

SUMMARY: The Pacific Fishery Management Council's (Pacific Council) South of Humbug Policy Workgroup (Workgroup) for Pacific halibut will hold a working meeting, which is open to the public.

DATES: The Workgroup meeting will be held Thursday, December 13, 2012 from 10 a.m. until business for the day is completed.

ADDRESSES: The meeting will be held at the Pacific Council Office, Large Conference Room, 7700 NE Ambassador Place, Suite 101, Portland, OR 97220-1384; telephone: (503) 820-2280.

Council address: Pacific Fishery Management Council, 7700 NE Ambassador Place, Suite 101, Portland, OR 97220-1384.

FOR FURTHER INFORMATION CONTACT: Ms. Kelly Ames, Staff Officer, Pacific Council: (503) 820-2280.

SUPPLEMENTARY INFORMATION: The overarching goals of the Workgroup meeting are to explore the best methods for incorporating the area south of the Oregon/California border into the International Pacific Halibut Commission's (IPHC) Pacific halibut stock assessment, examine the effect of including that area on the Area 2A apportionment, and evaluate methods to manage the fishery south of Humbug Mountain to comply with allocation provisions of the Catch Sharing Plan and the overall total allowable catch apportioned to Area 2A. No management actions will be decided by the Workgroup. The Workgroup's task will be to develop recommendations for IPHC and Council consideration in 2013.

Although non-emergency issues not contained in the meeting agenda may come before the Workgroup for discussion, those issues may not be the subject of formal Workgroup action during this meeting. Workgroup action will be restricted to those issues specifically listed in this notice and any issues arising after publication of this notice that require emergency action under section 305(c) of the Magnuson-Stevens Fishery Conservation and Management Act, provided the public has been notified of the Workgroup's intent to take final action to address the emergency.

Special Accommodations

This meeting is physically accessible to people with disabilities. Requests for sign language interpretation or other auxiliary aids should be directed to Mr. Kris Kleinschmidt at (503) 820-2280 at least 5 days prior to the meeting date.

Dated: November 20, 2012.
Tracey L. Thompson,
Acting Deputy Director, Office of Sustainable Fisheries, National Marine Fisheries Service.

[FR Doc. 2012-28553 Filed 11-23-12; 8:45 am]

BILLING CODE 3510-22-P